DEPARTMENT OF ENERGY

Federal Energy Regulatory Commission

Combined Notice of Filings #1

Take notice that the Commission received the following exempt wholesale generator filings:

Docket Numbers: EG22-116-000.

Applicants: Ocean State BTM, LLC.

Description: Ocean State BTM, LLC submits Notice of Self-Certification of Exempt Wholesale Generator Status.

Filed Date: 5/17/22.

Accession Number: 20220517-5114.

Comment Date: 5 p.m. ET 6/7/22.

Docket Numbers: EG22-117-000.

Applicants: Rumford ESS, LLC.

Description: Rumford ESS, LLC submits Notice of Self-Certification of Exempt Wholesale Generator Status.

Filed Date: 5/17/22.

Accession Number: 20220517-5116.

Comment Date: 5 p.m. ET 6/7/22.

Docket Numbers: EG22-118-000.

Applicants: Madison BTM, LLC.

Description: Madison BTM, LLC submits Notice of Self-Certification of Exempt Wholesale Generator Status.

Filed Date: 5/17/22.

Accession Number: 20220517-5117.

Comment Date: 5 p.m. ET 6/7/22.

Docket Numbers: EG22-119-000.

Applicants: South Portland ESS, LLC.

Description: South Portland ESS, LLC submits Notice of Self-Certification of Exempt Wholesale Generator Status.

Filed Date: 5/17/22.

Accession Number: 20220517-5118.

Comment Date: 5 p.m. ET 6/7/22.

Docket Numbers: EG22-120-000.

Applicants: Sanford ESS, LLC.

Description: Sanford ESS, LLC submits Notice of Self-Certification of Exempt Wholesale Generator Status.

Filed Date: 5/17/22.

Accession Number: 20220517-5121.

Comment Date: 5 p.m. ET 6/7/22.

Docket Numbers: EG22-121-000.

Applicants: Madison ESS, LLC.

Description: Madison ESS, LLC submits Notice of Self-Certification of Exempt Wholesale Generator Status.

Filed Date: 5/17/22.

Accession Number: 20220517-5129.

Comment Date: 5 p.m. ET 6/7/22.

Docket Numbers: EG22-122-000.

Applicants: AE-ESS NWS 1, LLC.

Description: AE-ESS NWS 1, LLC submits Notice of Self-Certification of Exempt Wholesale Generator Status.

Filed Date: 5/17/22.

Accession Number: 20220517-5130.

Comment Date: 5 p.m. ET 6/7/22.

Take notice that the Commission received the following electric rate filings:

Docket Numbers: ER16-2320-011.

Applicants: Pacific Gas and Electric Company.

Description: Compliance filing: TO18 Compliance Filing to be effective 3/1/2017.

Filed Date: 5/16/22.

Accession Number: 20220516-5244.

Comment Date: 5 p.m. ET 6/6/22.

Docket Numbers: ER20-1863-006.

Applicants: Ingenco Wholesale Power, L.L.C.

Description: Compliance filing: Infomrational Filing on Reactive Tariff ER20-1863 to be effective N/A.

Filed Date: 5/17/22.

Accession Number: 20220517-5136.

Comment Date: 5 p.m. ET 6/7/22.

Docket Numbers: ER21-1005-001.

Applicants: Montana-Dakota Utilities Co.

Description: Midcontinent Independent System Operator, Inc. submits tariff filing per 35.19a(b): Refund Report Montana-Dakota Utilities Co. to be effective N/A.

Filed Date: 5/17/22.

Accession Number: 20220517-5152.

Comment Date: 5 p.m. ET 6/7/22.

Docket Numbers: ER21-1339-002.

Applicants: California Ridge Wind Energy LLC.

Description: Midcontinent Independent System Operator, Inc. submits tariff filing per 35.19a(b): Refund Report_California Ridge Wind Energy LLC to be effective N/A.

Filed Date: 5/17/22.

Accession Number: 20220517-5133.

Comment Date: 5 p.m. ET 6/7/22.

Docket Numbers: ER21-1622-001.

Applicants: Otter Tail Power Company.

Description: Midcontinent Independent System Operator, Inc. submits tariff filing per 35.19a(b): Refund Report_Otter Tail Power Company to be effective N/A.

Filed Date: 5/17/22.

Accession Number: 20220517-5160.

Comment Date: 5 p.m. ET 6/7/22.

Docket Numbers: ER21-2179-001.

Applicants: Oliver Wind I, LLC.

Description: Midcontinent Independent System Operator, Inc. submits tariff filing per 35.19a(b): Refund Report_Oliver Wind I, LLC to be effective N/A.

Filed Date: 5/17/22.

Accession Number: 20220517-5167.

Comment Date: 5 p.m. ET 6/7/22.

Docket Numbers: ER21-2401-001.

Applicants: Oliver Wind Energy Center II, LLC.

Description: Midcontinent Independent System Operator, Inc. submits tariff filing per 35.19a(b): Refund Report_Oliver Wind Energy Center II, LLC to be effective N/A.

Filed Date: 5/17/22.

Accession Number: 20220517-5148.

Comment Date: 5 p.m. ET 6/7/22.

Docket Numbers: ER22-682-002.

Applicants: Duke Energy Progress, LLC.

Description: Duke Energy Progress, LLC submits a Petition for Limited Waiver of Rate Schedule Provision.

Filed Date: 5/13/22.

Accession Number: 20220513-5205.

Comment Date: 5 p.m. ET 6/3/22.

Docket Numbers: ER22-1884-000.

Applicants: Sanford ESS, LLC.

Description: Baseline eTariff Filing: Sanford ESS MBR Application Filing to be effective 6/1/2022.

Filed Date: 5/16/22.

Accession Number: 20220517-5001.

Comment Date: 5 p.m. ET 6/6/22.

Docket Numbers: ER22-1885-000.

Applicants: South Portland ESS, LLC.

Description: Baseline eTariff Filing: South Portland ESS MBR Application Filing to be effective 6/1/2022.

Filed Date: 5/17/22.

Accession Number: 20220517-5002.

Comment Date: 5 p.m. ET 6/7/22.

Docket Numbers: ER22-1886-000.

Applicants: NextEra Energy Transmission Southwest, LLC.

Description: Application for Authorization for Abandoned Plant Incentive Rate Treatment of NextEra Energy Transmission Southwest, LLC.

Filed Date: 5/16/22.

Accession Number: 20220516-5279.

Comment Date: 5 p.m. ET 6/6/22.

Docket Numbers: ER22-1887-000.

Applicants: New York Independent System Operator, Inc.

Description: § 205(d) Rate Filing: NYISO 205 filing of LGIA among NYISO, LIPA, and LI Solar for SA2709 to be effective 5/3/2022.

Filed Date: 5/17/22.

Accession Number: 20220517-5073.

Comment Date: 5 p.m. ET 6/7/22.

Docket Numbers: ER22-1888-000.

Applicants: AE-ESS NWS 1, LLC.

Description: Baseline eTariff Filing: AE-ESS NWS 1, LLC MBR Application to be effective 6/1/2022.

Filed Date: 5/17/22.

Accession Number: 20220517-5100.

Comment Date: 5 p.m. ET 6/7/22.

Docket Numbers: ER22-1889-000.

Applicants: Public Service Company of Colorado.

Description: § 205(d) Rate Filing: 2022-05-17 PSCo-BkCoU-Trans Intercon Agrmt—Amnd-433-0.1.0 to be effective 5/18/2022.

Filed Date: 5/17/22.

Accession Number: 20220517-5112.

Comment Date: 5 p.m. ET 6/7/22.

Docket Numbers: ER22-1890-000.

Applicants: Alabama Power Company, Georgia Power Company, Mississippi Power Company.

Description: § 205(d) Rate Filing: Alabama Power Company submits tariff filing per 35.13(a)(2)(iii): Alligator Creek Solar LGIA Amendment Filing to be effective 4/17/2022.

Filed Date: 5/17/22.

Accession Number: 20220517-5113.

Comment Date: 5 p.m. ET 6/7/22.

Docket Numbers: ER22-1891-000.

Applicants: Ingenco Wholesale Power, L.L.C.

Description: Compliance filing: Informational Filing on Reactive Tariff ER20-1863 to be effective N/A.

Filed Date: 5/17/22.

Accession Number: 20220517-5132.

Comment Date: 5 p.m. ET 6/7/22.

Docket Numbers: ER22-1892-000.

Applicants: Liberty Utilities (Granite State Electric) Corp.

Description: § 205(d) Rate Filing: Borderline Sales Rate Sheet Update May 2022 with Request for Notice Waiver to be effective 5/15/2022.

Filed Date: 5/17/22.

Accession Number: 20220517-5140.

Comment Date: 5 p.m. ET 6/7/22.

Docket Numbers: ER22-1893-000.

Applicants: American Electric Power Service Corporation, Ohio Power Company, PJM Interconnection, L.L.C.

Description: § 205(d) Rate Filing: American Electric Power Service Corporation submits tariff filing per 35.13(a)(2)(iii: AEP submits four Facilities Agreements re: ILDSA, SA No. 1336 to be effective 7/17/2022.

Filed Date: 5/17/22.

Accession Number: 20220517-5142.

Comment Date: 5 p.m. ET 6/7/22.

Docket Numbers: ER22-1894-000.

Applicants: PJM Interconnection, L.L.C.

Description: § 205(d) Rate Filing: First Revised ISA, SA No. 4835; Queue No. AE2-315 to be effective 4/19/2022.

Filed Date: 5/17/22.

Accession Number: 20220517-5164.

Comment Date: 5 p.m. ET 6/7/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 17, 2022.
Debbie-Anne A. Reese,
Deputy Secretary.

[FR Doc. 2022-11036 Filed 5-20-22; 8:45 am]

BILLING CODE 6717-01-P